COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 5/20/2014.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 12/20/2013 (78 FR 77105-77106) and 2/14/2014 (79 FR 8943-8944), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

Bungee Rope, Flexible, w/Crimped Loops

NSN: 5340-00-NIB-0127—3 feet, Black

NSN: 5340-00-NIB-0129—5 feet, Black

NSN: 5340-00-NIB-0192—3 feet, Camouflage

NSN: 5340-00-NIB-0193—3 feet, Olive Drab

NSN: 5340-00-NIB-0194—3 feet, Orange

NSN: 5340-00-NIB-0195—3 feet, Tan

NSN: 5340-00-NIB-0196—5 feet, Camouflage

NSN: 5340-00-NIB-0197—5 feet, Olive Drab

NSN: 5340-00-NIB-0198—5 feet, Orange

NSN: 5340-00-NIB-0199—5 feet, Tan

NPA: L.C. Industries for the Blind, Inc., Durham, NC

Contracting Activity: DEFENSE LOGISTICS AGENCY TROOP SUPPORT, PHILADELPHIA, PA

COVERAGE: B-List for the Broad Government Requirement as aggregated by the Defense Logistics Agency, Philadelphia, PA.

Gauze, Petrolatum, Sterile, White, 36″ x 3″

NSN: 6510-01-362-4959

NPA: Lighthouse Works, Orlando, FL

Contracting Activity: DEFENSE LOGISTICS AGENCY TROOP SUPPORT, PHILADELPHIA, PA

COVERAGE: C-List for 100% of the requirement of the Department of Defense, as aggregated by the Defense Logistics Agency Troop Support, Philadelphia, PA.

Services

Service Type/Location: Base Operations Support Service, National Geospatial-Intelligence Agency, NGA Campus West, 3200 S 2nd Street, St. Louis, MO

NPAs: ServiceSource, Inc., Alexandria, VA (Prime), CW Resources, Inc., New Britain, CT (Subcontractor)

Contracting Activity: DEPT OF DEFENSE, NATIONAL GEOSPATIAL-INTELLIGENCE AGENCY, ARNOLD, MO

The Committee for Purchase From People Who Are Blind or Severely Disabled (Committee) administers the AbilityOne Program in accordance with statutory and regulatory requirements. Committee regulations at 41 CFR 51-2-4 state that for a commodity or service to be suitable for addition to the Procurement List (PL) each of the following criteria must be satisfied: employment potential; nonprofit agency qualifications, capability, and level of impact on the current contractor for the commodity or service.

Comments were received from the incumbent contractor. The contractor, an Alaska Native Corporation (ANC), states that the Committee should not add the project to the PL, as it would result in severe adverse impact on their firm and that the service cannot be performed as required by the Javits-Wagner-O'Day (JWOD) Act. The contractor lists several reasons why the service should not be added to the PL, including: The Base Operations Support (BOS) service is the ANC's largest contract, representing over 35% of its FY12 sales revenue; the contractor has been a continuous supplier of the service since 1999 and relies on its track record of successful performance; ANCs are defined as “economically disadvantaged business enterprises,” which precludes the Committee from including its parent and affiliated corporations' financial sales revenue when assessing impact; and the addition would violate the intent of various statutes and regulations that confer contracting benefits on ANCs. The contractor also asserts that the BOS service contract will not generate employment for people with severe disabilities because they claim it cannot be performed using a 75% severely disabled workforce which they say is required by the JWOD Act for each service; and, they assert that the proposed AbilityOne nonprofit agency is not capable of performing the service or doing so at a fair market price.

Information provided by the contracting activity shows that the current contract for BOS service was awarded to the contractor as a large business in May 2009, following a full and open competition. The last option year ends on June 30, 2014. Following required government contracting protocols, the contracting activity conducted market research and developed an acquisition strategy seeking an AbilityOne nonprofit agency solution for the BOS service. The contracting activity has worked closely with the AbilityOne Program and the proposed nonprofit agency, and advises the Committee that it is fully confident of the technical capability of the nonprofit agency to perform the services using a workforce consisting of persons with severe disabilities. The contracting activity fully participated in the development of the recommended fair market price considered by the Committee.

In accordance with its regulations, the Committee considers whether the addition of an item to the PL would likely have a severe adverse impact on the current contractor by evaluating the financial data of the current contractor and its affiliated and parent corporations. The Committee does not separate contractors into “economically disadvantaged business enterprise” categories when reviewing the requested financial information. The contractor refused to provide the financial information of its affiliated and parent corporations. Following its standard practice, without such information, the Committee was unable to determine whether the addition of the service to the PL would result in severe adverse impact or if the contractor was more dependent on the sales; therefore, the Committee notified the contractor that it was proceeding with development of the project.

The contractor claims that ANCs are granted certain contracting benefits which should prevent the Committee from adding this project to the PL. However, the Committee's responsibility is to implement the JWOD Act and the Government's policy to increase employment opportunities for people who are blind or severely disabled. The Committee's authority to determine whether products or services are suitable for procurement from people with significant disabilities is not precluded by the limited contract preferences afforded to ANCs. The Committee determines that the JWOD Act coexists with and remains relevant in light of the statutes that afford limited contract preference to ANCs.

The contractor is incorrect in alleging that the BOS service contract will not generate employment for people with severe disabilities since each function or service will not be performed using a 75% severely disabled workforce, thereby demonstrating that the nonprofit agency is incapable of performing the services or doing so at a fair market price. The JWOD Act has no requirement that each service involved in a contract be performed using a 75% disabled workforce. The Committee determines which services and products provided by qualified nonprofit agencies employing people who are blind or severely disabled are suitable to be added to the PL. A qualified nonprofit agency is one that employs people who are blind or severely disabled for not less than 75% of the direct labor hours involved in furnishing all goods and services provided by the nonprofit agency during the fiscal year, including those furnished outside the AbilityOne Program. The nonprofit agencies proposed to perform the work will maintain compliance with the statutory direct labor ratio requirement. Moreover, the information available to the Committee convincingly documents that the BOS service will generate employment for people with severe disabilities; that the nonprofit agency is capable of performing the services; and that the service can be performed at a fair market price established by the Committee.

Accordingly, after full consideration, the Committee has determined that the service in question is suitable for addition to the Procurement List.

Service Type/Location: Janitorial Service, U.S. Fish and Wildlife Service, Region 6, National Eagle and Wildlife Property Repository and Law Enforcement Office, (Except wildlife property storage area (warehouse)), 6550 Gateway Road, RMA, Building 128, Commerce City, CO

NPA: North Metro Community Services for Developmentally Disabled, Westminster, CO

Contracting Activity: DEPT OF THE INTERIOR, U.S. FISH AND WILDLIFE SERVICE, CONTRACTING AND GENERAL SERVICES DIV, DENVER, CO

Barry S. Lineback,
Director, Business Operations.

[FR Doc. 2014-09005 Filed 4-18-14; 8:45 am]

BILLING CODE 6353-01-P